ENVIRONMENTAL PROTECTION AGENCY

[FRL-7488-5]

National Advisory Council for Environmental Policy and Technology

AGENCY: Environmental Protection Agency (EPA).

ACTION: Notice.

SUMMARY: Under the Federal Advisory Committee Act, Pub. L. 92463, EPA gives notice of a meeting of the National Advisory Council for Environmental Policy and Technology (NACEPT). NACEPT provides advice and recommendations to the Administrator of EPA on a broad range of environmental policy, technology, and management issues.

NACEPT consists of a representative cross-section of EPA's partners and principle constituents who provide advice and recommendations on policy issues and serve as a sounding board for new strategies that the Agency is developing. The Council is a proactive, strategic panel of experts that identifies emerging challenges facing EPA and responds to specific charges requested by the Administrator and the program office managers.

The purpose of the meeting is to discuss the NACEPT Council agenda for FY 03-04 and agree on appropriate venues to address the topics in a timely and efficient manner. NACEPT will discuss a number of issues, including agriculture, environmental technology, EPA's draft strategic plan, EPA's Report on the Environment, and emerging trends facing the agency. In addition, NACEPT will report on the work of its subcommittees.

DATES: NACEPT will hold a two day public meeting on Tuesday, May 6, 2003, from 8:30 a.m. to 5:30 p.m. and Wednesday, May 7, 2003, from 8:30 a.m. to 12:30 p.m. Due to contractual issues, the Federal Register notice was delayed.

ADDRESSES: The meeting will be held at the Embassy Suites Hotel, 1250 22nd Street, NW. Washington, DC. The meeting is open to the public, with limited seating on a first-come, first-served basis.

SUPPLEMENTARY INFORMATION: Requests to make oral comments or provide written comments to the Council should be sent to Gwendolyn Whitt, Designated Federal Officer/NACEPT using the contact information below. The public is welcome to attend all portions of the meeting. Members of the public expecting to submit written comments and/or make brief oral statements (5-minute limit) during the public comment session are encouraged to contact Ms. Whitt by May 2, 2003.

FOR FURTHER INFORMATION CONTACT: Gwendolyn Whitt, Designated Federal Officer, whitt.gwen@epa.gov, (ph) (202) 233-0090, U.S. EPA, Office of Cooperative Environmental Management (1601E), 1200 Pennsylvania Avenue NW., Washington, DC 20460.

Meeting Access: Individuals requiring special accommodation at this meeting, including wheelchair access, should contact Gwendolyn Whitt at least five business days prior to the meeting so that appropriate arrangements can be made.

Dated: April 18, 2003.
Gwendolyn Whitt,
Designated Federal Officer.

[FR Doc. 03-10271 Filed 4-24-03; 8:45 am]

BILLING CODE 6560-50-P